ENVIRONMENTAL PROTECTION AGENCY

40 CFR Part 52

[CA130-NBK; FRL-9942-49-Region 9]

Approval and Promulgation of Implementation Plans; State of California; Revised Format for Materials Incorporated by Reference

AGENCY: Environmental Protection Agency (EPA).

ACTION: Final rule; notice of administrative change.

SUMMARY: The Environmental Protection Agency (EPA) is revising the format for materials submitted by the State of California that are incorporated by reference (IBR) into the California State Implementation Plan (SIP). The regulations affected by this format change have all been previously submitted by the State of California and approved by the EPA. This format revision will primarily affect the “Identification of plan” section, as well as the format of the SIP materials that will be available for public inspection at the National Archives and Records Administration (NARA) and the EPA Regional Office. This action, which only relates to state statutes and state regulations and does not include local and regional California air district rules, local ordinances, source-specific requirements, or nonregulatory and quasi-regulatory provisions, is the first of a series of actions intended to change the format for the entire California SIP.

DATES: Effective Date: This rule is effective on May 26, 2016.

ADDRESSES: SIP materials which are incorporated by reference into 40 CFR part 52 are available for inspection at the following locations:

Air Division, U.S. Environmental Protection Agency, Region IX, 75 Hawthorne Street, San Francisco, CA 94105-3901; and

National Archives and Records Administration.

For information on the availability of this material at NARA, call 202-741-6030, or go to: http://www.archives.gov/federal-register/cfr/ibr-locations.html.

FOR FURTHER INFORMATION CONTACT: Kevin Gong, EPA Region IX, (415) 972-3073, gong.kevin@epa.gov.

SUPPLEMENTARY INFORMATION: Throughout this document, wherever “we”, “us” or “our” are used, we mean the EPA. Information is organized as follows:

Table of Contents

I. Background

A. What a SIP Is

B. How the EPA Enforces SIPs

C. How the State and the EPA Update the SIP

D. How the EPA Compiles the SIPs

E. How the EPA Organizes the SIP Compilation

F. Where You Can Find a Copy of the SIP Compilation

G. The Format of the New Identification of Plan Section

H. When a SIP Revision Becomes Federally Enforceable

II. What the EPA Is Doing in This Action

III. Incorporation by Reference

IV. Statutory and Executive Order Reviews

I. Background

A. What a SIP Is

Each State has a SIP containing the control measures and strategies used to attain and maintain the national ambient air quality standards (NAAQS). The SIP is extensive, containing such elements as air pollution control regulations, emission inventories, monitoring network, attainment demonstrations, and enforcement mechanisms.

B. How the EPA Enforces SIPs

Each state must formally adopt the control measures and strategies in the SIP after the public has had an opportunity to comment on them. They are then submitted to the EPA as SIP revisions upon which the EPA must formally act. Once these control measures and strategies are approved by the EPA, after notice and comment, they are incorporated into the federally approved SIP and are identified in part 52 (Approval and Promulgation of Implementation Plans), title 40 of the Code of Federal Regulations (40 CFR part 52). The actual state regulations approved by the EPA are not reproduced in their entirety in 40 CFR part 52, but are “incorporated by reference” (IBR'd) which means that the EPA has approved a given state regulation with a specific effective date. This format allows both the EPA and the public to know which measures are contained in a given SIP and ensures that the state is enforcing the regulations. It also allows the EPA and the public to take enforcement action, should a state not enforce its SIP-approved regulations.

C. How the State and the EPA Update the SIP

The SIP is a living document which the state can revise as necessary to address the unique air pollution problems in the state. Therefore, the EPA must, from time to time, take action on SIP revisions containing new or revised regulations in order to make them part of the SIP. On May 22, 1997 (62 FR 27968), the EPA revised the procedures for IBR'ing federally-approved SIPs, as a result of consultations between the EPA and the Office of the Federal Register (OFR).

The EPA began the process of developing: (1) A revised SIP document for each state that would be IBR'd under the provisions of title 1 CFR part 51; (2) a revised mechanism for announcing the EPA's approval of revisions to an applicable SIP and updating both the IBR document and the CFR; and (3) a revised format of the “Identification of Plan” sections for each applicable subpart to reflect these revised IBR procedures. The description of the revised SIP document, IBR procedures, and “Identification of plan” format are discussed in further detail in the May 22, 1997, Federal Register document. We have taken action to revise the format for many state SIPs, see, e.g., 40 CFR 52.1470 and 52.1490 (“Identification of plan” and “Original identification of plan” sections for the State of Nevada SIP), and take the first step today towards revising the format of the California SIP.

D. How the EPA Compiles the SIPs

Under the revised SIP format, the federally-approved regulations, source-specific requirements, and nonregulatory provisions (entirely or portions of) submitted by each state agency have been compiled by the EPA into a “SIP compilation.” The SIP compilation contains the updated regulations, source-specific requirements, and nonregulatory and quasi-regulatory provisions approved by the EPA through previous rulemaking actions in the Federal Register.

E. How the EPA Organizes the SIP Compilation

Each compilation contains three parts. Part one contains the regulations, part two contains the source-specific requirements that have been approved as part of the SIP, and part three contains nonregulatory and quasi-regulatory provisions that have been EPA-approved. Each part consists of a table or tables of identifying information for each SIP-approved regulation, each SIP-approved source-specific requirement, and each nonregulatory or quasi-regulatory SIP provision. The EPA Regional Offices have the primary responsibility for updating the compilations and ensuring their accuracy.

In this action, the EPA is publishing the tables summarizing the state statutes and state regulations approved into the applicable California SIP. Given the size of the California SIP, the EPA is revising the format of the California SIP in a phased manner. This first action relates only to state statutes and state regulations. Future actions in the series of rulemakings will revise the format of the local and regional California air district rules, local ordinances, source-specific requirements, nonregulatory provisions and quasi-regulatory measures approved by the EPA as part of the California SIP.

F. Where You Can Find a Copy of the SIP Compilation

EPA Region IX developed and will maintain the compilation for California. A copy of the full text of California's regulatory SIP compilation will also be maintained at NARA.

G. The Format of the New Identification of Plan Section

In order to better serve the public, the EPA revised the organization of the “Identification of plan” section and included additional information to clarify the enforceable elements of the SIP. The revised Identification of plan section contains five subsections:

1. Purpose and scope.

2. Incorporation by reference.

3. EPA-approved regulations.

4. EPA-approved source-specific requirements.

5. EPA-approved nonregulatory and quasi-regulatory provisions such as air quality attainment plans, rate of progress plans, maintenance plans, monitoring networks, and small business assistance programs.

The California SIP is found in 40 CFR part 52 (“Approval and promulgation of implementation plans”), subpart F (“California”), section 52.220 (“Identification of plan”).¹ In this action, we are revising the heading of section 52.220 to read, “Identification of plan—in part,” and adding an introductory paragraph to convey our division of the California “Identification of plan” section into two sections:

¹ Subpart F begins with 40 CFR 52.219 (“Identification of plan—conditional approval”). Section 52.219 was promulgated at 58 FR 62533 (November 29, 1993) in a final rule in which the EPA conditionally approved California's request to “opt-out” of the clean-fuel vehicle fleet program required under CAA section 246 based on the state's commitment to formally adopt and submit a demonstration that the California Low-Emission Vehicle (LEV) program qualifies as a substitute for the section 246 program. In 1999, the EPA approved the state's SIP revision demonstrating that the LEV program qualifies as a substitute for the CAA clean-fuel vehicle fleet program and rescinded the condition on approval of the opt-out request. See the proposed approval at 62 FR 18071 (April 14, 1997) and the final approval at 64 FR 46849 (August 27, 1999). Our 1999 final action should have removed the now-obsolete regulatory text in 40 CFR 52.219 but failed to do so, and we are taking the opportunity now to remove the obsolete conditional approval in 40 CFR 52.219 from the CFR in this rulemaking.

• Amended section 52.220, which will for the time being continue to function as it has in the past to list past and newly-approved air district rules, local ordinances, source-specific requirements, and nonregulatory and quasi-regulatory provisions and which will list state statutes and state regulations approved on or prior to April 1, 2016 but will not list new or amended state statutes or state regulations approved after April 1, 2016, and

• New section 52.220a (“Identification of plan—in part”), which will list the state statutes and state regulations approved as part of the California SIP after April 1, 2016.

This means that subsequent EPA approvals of air district rules, local ordinances, source-specific requirements, and nonregulatory and quasi-regulatory provisions will continue to be promulgated in 40 CFR 52.220 using the paragraph format whereas EPA approvals of state statutes and state regulations will now be promulgated in 40 CFR 52.220a using the table format.

Over time, as the EPA completes further rulemaking actions to convert the format of the California SIP, section 52.220a will include a growing number of air district rules, local ordinances, source-specific requirements, and nonregulatory and quasi-regulatory provisions. Once the conversion process is completed, the EPA will redesignate section 52.220a as 52.220 and rename it simply “Identification of plan.” At that point, all subsequent actions by the EPA to approve California SIP revisions will be promulgated using the new table format. The EPA does not intend to retain in subpart F the historical record of SIP approvals that have been promulgated in paragraph format once the conversion process is completed.

H. When a SIP Revision Becomes Federally Enforceable

All revisions to the relevant portion of the applicable SIP (in this first instance, state statutes and state regulations) become federally enforceable as of the effective date of the revisions to paragraphs (c), (d), or (e) of the applicable “Identification of plan—in part” section found in subpart F of 40 CFR part 52.

II. What the EPA Is Doing in This Action

Today's rule constitutes a “housekeeping” exercise to ensure that all revisions to the state programs that have occurred are accurately reflected in 40 CFR part 52. State SIP revisions are controlled by the EPA's regulations at 40 CFR part 51. When the EPA receives a formal SIP revision request, the Agency must publish the proposed revision in the Federal Register and provide for public comment before approval.

The EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in federal and approved state programs. Under section 553 of the APA, an agency may find good cause where procedures are “impractical, unnecessary, or contrary to the public interest.” Public comment is “unnecessary” and “contrary to the public interest” since the codification only reflects existing law. Immediate notice in the CFR benefits the public by removing outdated citations.

III. Incorporation by Reference

In this rule, the EPA is finalizing regulatory text that includes incorporation by reference. In accordance with requirements of 1 CFR 51.5, the EPA is reformatting the materials incorporated by reference in previous rulemakings on submittal of the California SIP and SIP revisions. The EPA has made, and will continue to make, these documents generally available at the appropriate EPA office (see the ADDRESSES section of this preamble for more information).

IV. Statutory and Executive Order Reviews

A. General Requirements

This action does not impose additional requirements beyond those previously approved into the SIP and already imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

In issuing this rule, the EPA has taken the necessary steps to eliminate drafting errors and ambiguity, minimize potential litigation, and provide a clear legal standard for affected conduct, as required by section 3 of Executive Order 12988 (61 FR 4729, February 7, 1996). The EPA has complied with Executive Order 12630 (63 FR 8859, March 15, 1998) by examining the takings implications of the rule in accordance with the “Attorney General's Supplemental Guidelines for the Evaluation of Risk and Avoidance of Unanticipated Takings” issued under the executive order. The EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in federal and approved state programs. 5 U.S.C. 802(2). As stated previously, the EPA has made such a good cause finding, including the reasons therefore, and established an effective of May 26, 2016. The EPA will submit a report containing this rule and other required information to the U.S. Senate, the U.S. House of Representatives, and the Comptroller General of the United States prior to publication of the rule in the Federal Register. The change in format to the “Identification of plan” section for the State of California are not a `major rule' as defined by 5 U.S.C. 804(2).

C. Petitions for Judicial Review

The EPA has also determined that the provisions of section 307(b)(1) of the Clean Air Act pertaining to petitions for judicial review are not applicable to this action. Prior EPA rulemaking actions for each individual component of the California SIP compilation had previously afforded interested parties the opportunity to file a petition for judicial review in the United States Court of Appeals for the appropriate circuit within 60 days of such rulemaking action. Thus, the EPA sees no need in this action to reopen the 60-day period for filing such petitions for judicial review for these “Identification of plan” reorganization actions for California.

List of Subjects in 40 CFR Part 52

Environmental protection, Air pollution control, Carbon monoxide, Incorporation by reference, Intergovernmental relations, Nitrogen dioxide, Ozone, Particulate matter, Reporting and recordkeeping requirements, Sulfur dioxide, Volatile organic compounds.

Dated: April 12, 2016.
Alexis Strauss,
Acting Regional Administrator, Region IX.

Part 52, chapter I, title 40 of the Code of Federal Regulations are amended as follows:

PART 52—APPROVAL AND PROMULGATION OF IMPLEMENTATION PLANS

1. The authority citation for part 52 continues to read as follows:

Authority: 42 U.S.C. 7401 et seq.

Subpart F—California

2. Remove § 52.219 from subpart F.

3. Revise the heading of § 52.220 and add introductory text to the section to read as follows:

§ 52.220 Identification of plan—in part.

This section identifies the local and regional air district rules, local ordinances, source-specific requirements, and nonregulatory materials submitted by the State of California and approved as part of the California state implementation plan. This section also identifies California statutes and state regulations submitted by the State of California and approved as part of the California state implementation plan on or prior to April 1, 2016. New or amended California statutes and state regulations approved after April 1, 2016 are identified in § 52.220a.

* * * * *

4. Add new § 52.220a to read as follows:

§ 52.220a Identification of plan—in part.

(a) Purpose and scope. This section sets forth a portion of the applicable State implementation plan for the State of California under section 110 of the Clean Air Act, 42 U.S.C. 7401-7671q and 40 CFR part 51 to meet national ambient air quality standards. This section identifies the state statutes and state regulations portion of the applicable California State implementation plan.

(b) Incorporation by reference. (1) Material listed in paragraph (c) and (d) of this section with an EPA approval date on or prior to April 1, 2016, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after April 1, 2016 will be incorporated by reference in the next update to the SIP compilation.

(2) EPA Region IX certifies that the rules/regulations provided by EPA in the SIP compilation at the addresses in paragraph (b)(3) of this section are an exact duplicate of the officially promulgated State rules/regulations which have been approved as part of the State implementation plan as of April 1, 2016.

(3) Copies of the materials incorporated by reference may be inspected at the Region IX EPA Office at 75 Hawthorne Street, San Francisco, CA 94105; or the National Archives and Records Administration (NARA). For information on the availability of this material at NARA, call (202) 741-6030, or go to: http://www.archives.gov/federal-register/cfr/ibr-locations.html.

(c) EPA-approved regulations.

Table 1—EPA-Approved Statutes and State Regulations ¹
State citation | Title/subject | State effective date | EPA approval date | Additional explanation
GOVERNMENT CODE
Title 9 (Political Reform), Chapter 2 (Definitions)
82048 | Public official | January 1, 2005 | April 1, 2016, 81 FR 18766 | Added by California Initiative Measure approved on June 4, 1974, effective January 7, 1975, and last amended in 2004. Submitted on March 6, 2014. See 40 CFR 52.220(c)(468)(i)(A)(1).
Title 9 (Political Reform), Chapter 7 (Conflicts of Interest), Article 1 (General Prohibitions)
87103 | Financial interest in decision by public official | January 1, 2001 | April 1, 2016, 81 FR 18766 | Added by California Initiative Measure approved on June 4, 1974, effective January 7, 1975, and last amended in 2000. Submitted on March 6, 2014. See 40 CFR 52.220(c)(468)(i)(A)(2).
Title 9 (Political Reform), Chapter 7 (Conflicts of Interest), Article 3 (Conflict of Interest Codes)
87302 | Required Provisions; exemptions | January 1, 1993 | April 1, 2016, 81 FR 18766 | Added by California Initiative Measure approved on June 4, 1974, effective January 7, 1975, and last amended in 1992. Submitted on March 6, 2014. See 40 CFR 52.220(c)(468)(i)(A)(3).
HEALTH AND SAFETY CODE
Division 26 (Air Resources Board), Part 4 (Nonvehicular Air Pollution Control), Chapter 3 (Emission Limitations), Article 5 (Gasoline Vapor Recovery)
41950 | Standards for stationary tanks | January 1, 1976 | July 8, 1982, 47 FR 29668 | Submitted on April 23, 1980. See 40 CFR 52.220(c)(69)(iv). Added Stats. 1975 ch. 957 § 12.
41951 | “Pressure tank” defined | January 1, 1976 | July 8, 1982, 47 FR 29668 | Submitted on April 23, 1980. See 40 CFR 52.220(c)(69)(iv). Added Stats. 1975 ch. 957 § 12.
41952 | “Vapor recovery system” defined | January 1, 1976 | July 8, 1982, 47 FR 29668 | Submitted on April 23, 1980. See 40 CFR 52.220(c)(69)(iv). Former § 39068.4. Added Stats. 1975 ch. 957 § 12.
41953 | “Floating roof” defined | January 1, 1976 | July 8, 1982, 47 FR 29668 | Submitted on April 23, 1980. See 40 CFR 52.220(c)(69)(iv). Former § 39068.5. Added Stats. 1975 ch. 957 § 12.
41954 | Procedures; Standards; Certification; Testing; Fees | September 28, 1981 | July 8, 1982, 47 FR 29668 | Submitted on April 23, 1980. See 40 CFR 52.220(c)(69)(iv). Stats. 1981 ch. 902 § 5.
41955 | Submission of system for certification | September 20, 1976 | July 8, 1982, 47 FR 29668 | Submitted on April 23, 1980. See 40 CFR 52.220(c)(69)(iv).
41956 | Fire prevention and measurement standards | September 28, 1981 | July 8, 1982, 47 FR 29668 | Submitted on April 23, 1980. See 40 CFR 52.220(c)(69)(iv).
41956.1 | Revision of standards; Prohibited systems | September 28, 1981 | July 8, 1982, 47 FR 29668 | Submitted on April 23, 1980. See 40 CFR 52.220(c)(69)(iv).
41957 | Safety hazards | September 20, 1976 | July 8, 1982, 47 FR 29668 | Submitted on April 23, 1980. See 40 CFR 52.220(c)(69)(iv).
41958 | Design and performance standards; Certification and testing | September 28, 1981 | July 8, 1982, 47 FR 29668 | Submitted on April 23, 1980. See 40 CFR 52.220(c)(69)(iv).
41959 | Simultaneous testing | September 20, 1976 | July 8, 1982, 47 FR 29668 | Submitted on April 23, 1980. See 40 CFR 52.220(c)(69)(iv).
41960 | Local or regional authorities | September 20, 1976 | July 8, 1982, 47 FR 29668 | Submitted on April 23, 1980. See 40 CFR 52.220(c)(69)(iv).
41960.1 | Operation of motor vehicle fueling vapor control system | September 20, 1976 | July 8, 1982, 47 FR 29668 | Submitted on April 23, 1980. See 40 CFR 52.220(c)(69)(iv).
41960.2 | Maintenance of vapor control system; Identification of equipment defects | September 28, 1981 | July 8, 1982, 47 FR 29668 | Submitted on April 23, 1980. See 40 CFR 52.220(c)(69)(iv).
41960.3 | Complaints concerning motor vehicle vapor control systems | September 28, 1981 | July 8, 1982, 47 FR 29668 | Submitted on April 23, 1980. See 40 CFR 52.220(c)(69)(iv).
41960.4 | Posting of operating instructions for motor vehicle fueling vapor control systems | September 28, 1981 | July 8, 1982, 47 FR 29668 | Submitted on April 23, 1980. See 40 CFR 52.220(c)(69)(iv).
41961 | Certification fee | September 20, 1976 | July 8, 1982, 47 FR 29668 | Submitted on April 23, 1980. See 40 CFR 52.220(c)(69)(iv).
41962 | Certification of standards compliance for cargo tanks | January 1, 1978 | July 8, 1982, 47 FR 29668 | Submitted on April 23, 1980. See 40 CFR 52.220(c)(69)(iv). Added Stats. 1977 ch. 983 § 2.
PUBLIC RESOURCES CODE
Division 13 (Environmental Quality)
21000 | Legislative intent | January 1, 1980 | January 21, 1981, 46 FR 5965 | Section from the California Environmental Quality Act. Submitted on October 20, 1980. See 40 CFR 52.220(c)(63). Stats. 1979 c. 947 p. 3270 § 4.
21001 | Additional legislative intent | January 1, 1980 | January 21, 1981, 46 FR 5965 | Section from the California Environmental Quality Act. Submitted on October 20, 1980. See 40 CFR 52.220(c)(63). Stats. 1979 c. 947 p. 3271 § 5.
21002 | Approval of projects; feasible alternatives or mitigation measures | January 1, 1977 | January 21, 1981, 46 FR 5965 | Section from the California Environmental Quality Act. Submitted on October 20, 1980. See 40 CFR 52.220(c)(63). Stats. 1976 c. 1312 § 1.
21002.1 | Use of environmental impact reports; policy | January 1, 1978 | January 21, 1981, 46 FR 5965 | Section from the California Environmental Quality Act. Submitted on October 20, 1980. See 40 CFR 52.220(c)(63). Stats. 1977 c. 1200 p. 3996 § 1.5.
21061 | “Environmental impact report” defined | January 1, 1977 | January 21, 1981, 46 FR 5965 | Section from the California Environmental Quality Act. Submitted on October 20, 1980. See 40 CFR 52.220(c)(63). Stats. 1976 c. 1312 § 5.
21063 | “Public agency” defined | December 5, 1972 | January 21, 1981, 46 FR 5965 | Section from the California Environmental Quality Act. Submitted on October 20, 1980. See 40 CFR 52.220(c)(63). Stats. 1972 c. 1154 p. 2271 § 1.
21065 | “Project” defined | December 5, 1972 | January 21, 1981, 46 FR 5965 | Section from the California Environmental Quality Act. Submitted on October 20, 1980. See 40 CFR 52.220(c)(63). Stats. 1972 c. 1154 p. 2271 § 1.
21080.1 | Environmental impact report or negative declaration; determination by lead agency; finality; consultation | January 1, 1978 | January 21, 1981, 46 FR 5965 | Section from the California Environmental Quality Act. Submitted on October 20, 1980. See 40 CFR 52.220(c)(63). Stats. 1977 c. 1200 p. 3997 § 3.
21080.4 | Environmental impact report; requirement determined by lead agency; duties of responsible agencies; consultation; assistance by office of planning and research | September 26, 1978 | January 21, 1981, 46 FR 5965 | Section from the California Environmental Quality Act. Submitted on October 20, 1980. See 40 CFR 52.220(c)(63). Stats. 1978 c. 1113 p. 3403 § 8.3.
21080.5(a), (b), (c), and (d) | Plans in lieu of environmental impact report | June 30, 1978 | January 21, 1981, 46 FR 5965 | Section from the California Environmental Quality Act. Submitted on October 20, 1980. See 40 CFR 52.220(c)(63). Stats. 1978 c. 308.
21081 | Necessary findings where environmental impact report identifies effects | January 1, 1977 | January 21, 1981, 46 FR 5965 | Section from the California Environmental Quality Act. Submitted on October 20, 1980. See 40 CFR 52.220(c)(63). Stats. 1976 c. 1312 § 9.
21082 | Public agencies; adoption of objectives, criteria and procedures; consistency with guidelines | January 1, 1977 | January 21, 1981, 46 FR 5965 | Section from the California Environmental Quality Act. Submitted on October 20, 1980. See 40 CFR 52.220(c)(63). Stats. 1976 c. 1312 § 9.5.
21100 | Environmental impact report on proposed state projects; significant effect; cumulative impact analysis | January 1, 1977 | January 21, 1981, 46 FR 5965 | Section from the California Environmental Quality Act. Submitted on October 20, 1980. See 40 CFR 52.220(c)(63). Stats. 1976 c. 1312 § 16.
21104 | State lead agency; consultations prior to completion of impact report | January 1, 1978 | January 21, 1981, 46 FR 5965 | Section from the California Environmental Quality Act. Submitted on October 20, 1980. See 40 CFR 52.220(c)(63). Stats. 1977 c. 1200 p. 4001 § 11.
21151 | Local agencies; preparation and completion of impact report; submission as part of general plan report; significant effort | December 5, 1972 | January 21, 1981, 46 FR 5965 | Section from the California Environmental Quality Act. Submitted on October 20, 1980. See 40 CFR 52.220(c)(63). Stats. 1972 c. 1154 p. 2276 § 11.
21153 | Local lead agency; consultations prior to completion of impact report | December 5, 1972 | January 21, 1981, 46 FR 5965 | Section from the California Environmental Quality Act. Submitted on October 20, 1980. See 40 CFR 52.220(c)(63). Stats. 1972 c. 1154 p. 2276 § 14.
21160 | Application for lease, permit, license, etc.; data and information; purpose; trade secrets | December 5, 1972 | January 21, 1981, 46 FR 5965 | Section from the California Environmental Quality Act. Submitted on October 20, 1980. See 40 CFR 52.220(c)(63). Stats. 1972 c. 1154 p. 2276 § 15.
CALIFORNIA CODE OF REGULATIONS
Title 2 (Administration), Division 6 (Fair Political Practices Commission), Chapter 7 (Conflicts of Interest); Article 1 (Conflicts of Interest; General Prohibition)
18700 | Basic rule; Guide to conflict of interest regulations | January 19, 2006 | April 1, 2016, 81 FR 18766 | Filed on December 17, 1976, effective upon filing, and last amendment filed on December 20, 2005, operative January 19, 2006. Submitted on March 6, 2014. See 40 CFR 52.220(c)(468)(i)(A)(4).
18701 | Public Official, Definitions | January 28, 2006 | April 1, 2016, 81 FR 18766 | Filed on January 22, 1976, effective February 21, 1976, and last amendment filed on December 29, 2005, operative January 28, 2006. Submitted on March 6, 2014. See 40 CFR 52.220(c)(468)(i)(A)(5).
Title 3 (Food and Agriculture), Division 6 (Pesticides and Pest Control Operations), Chapter 2 (Pesticides); Subchapter 4 (Restricted Materials); Article 4 (Field Fumigant Use Requirements)
6447 | Methyl Bromide—Field Fumigation General Requirements | January 25, 2008 | October 26, 2012, 77 FR 65294 | Only the undesignated introductory text of this regulation was approved into the SIP. Submitted on October 12, 2009. See 40 CFR 52.220(c)(413)(i)(A)(1).
6447.3 | Methyl Bromide—Field Fumigation Methods | January 25, 2008 | October 26, 2012, 77 FR 65294 | Submitted on October 12, 2009. See 40 CFR 52.220(c)(413)(i)(A)(1).
6448 | 1,3-Dichloropropene Field Fumigation—General Requirements | January 25, 2008 | October 26, 2012, 77 FR 65294 | Submitted on October 12, 2009. See 40 CFR 52.220(c)(413)(i)(A)(1).
6448.1 | 1,3-Dichloropropene Field Fumigation Methods | April 7, 2011 | October 26, 2012, 77 FR 65294 | Submitted on August 2, 2011. See 40 CFR 52.220(c)(414)(i)(A)(1).
6449 | Chloropicrin Field Fumigation—General Requirements | January 25, 2008 | October 26, 2012, 77 FR 65294 | Submitted on October 12, 2009. See 40 CFR 52.220(c)(413)(i)(A)(1).
6449.1 | Chloropicrin Field Fumigation Methods | April 7, 2011 | October 26, 2012, 77 FR 65294 | Submitted on August 2, 2011. See 40 CFR 52.220(c)(414)(i)(A)(1).
6450 | Metam-Sodium, Potassium N-methyldithiocarbamate (metam potassium), and Dazomet Field Fumigation—General Requirements | January 25, 2008 | October 26, 2012, 77 FR 65294 | Submitted on October 12, 2009. See 40 CFR 52.220(c)(413)(i)(A)(1).
6450.1 | Metam-Sodium and Potassium N-methyldithiocarbamate (Metam Potassium) Field Fumigation Methods | April 7, 2011 | October 26, 2012, 77 FR 65294 | Submitted on August 2, 2011. See 40 CFR 52.220(c)(414)(i)(A)(1).
6450.2 | Dazomet Field Fumigation Methods | January 25, 2008 | October 26, 2012, 77 FR 65294 | Submitted on October 12, 2009. See 40 CFR 52.220(c)(413)(i)(A)(1).
6451 | Sodium Tetrathiocarbonate Field Fumigation—General Requirements | January 25, 2008 | October 26, 2012, 77 FR 65294 | Submitted on October 12, 2009. See 40 CFR 52.220(c)(413)(i)(A)(1).
6451.1 | Sodium Tetrathiocarbonate Field Fumigation Methods | January 25, 2008 | October 26, 2012, 77 FR 65294 | Submitted on October 12, 2009. See 40 CFR 52.220(c)(413)(i)(A)(1).
6452 | Reduced Volatile Organic Compound Emissions Field Fumigation Methods | January 25, 2008 | October 26, 2012, 77 FR 65294 | Submitted on October 12, 2009. See 40 CFR 52.220(c)(413)(i)(A)(1).
6452.1 | Fumigant Volatile Organic Compound Emission Records and Reporting | January 25, 2008 | October 26, 2012, 77 FR 65294 | Submitted on October 12, 2009. See 40 CFR 52.220(c)(413)(i)(A)(1).
6452.2 | Fumigant Volatile Organic Compound Emission Limits | April 7, 2011 | October 26, 2012, 77 FR 65294 | Excluding benchmarks for, and references to, Sacramento Metro, San Joaquin Valley, South Coast, and Southeast Desert in subsection (a) and excluding subsection (d). Submitted on August 2, 2011. See section 52.220(c)(414)(i)(A) (1).
6452.3 | Field Fumigant Volatile Organic Compound Emission Allowances | April 7, 2011 | October 26, 2012, 77 FR 65294 | Submitted on August 2, 2011. See 40 CFR 52.220(c)(414)(i)(A)(1).
6452.4 | Annual Volatile Organic Compound Emissions Inventory Report | April 7, 2011 | October 26, 2012, 77 FR 65294 | Excluding references to section 6446.1 in subsection (a)(4). Submitted on August 2, 2011. See 40 CFR 52.220(c)(414)(i)(A)(1).
Title 3 (Food and Agriculture), Division 6 (Pesticides and Pest Control Operations), Chapter 3 (Pest Control Operations); Subchapter 2 (Work Requirements); Article 1 (Pest Control Operations Generally)
6624 | Pesticide Use Records | December 20, 2010 | October 26, 2012, 77 FR 65294 | Excluding references in subsection (f) to methyl iodide and section 6446.1. Submitted on August 2, 2011. See 40 CFR 52.220(c)(414)(i)(A)(2).
6626 | Pesticide Use Reports for Production Agriculture | April 7, 2011 | October 26, 2012, 77 FR 65294 | Submitted on August 2, 2011. See 40 CFR 52.220(c)(414)(i)(A)(2).
Title 13 (Motor Vehicles), Division 3 (Air Resources Board), Chapter 1 (Motor Vehicle Pollution Control Devices); Article 2 (Approval of Motor Vehicle Pollution Control Devices (New Vehicles))
1956.8 | Exhaust Emissions Standards and Test Procedures—1985 and Subsequent Model Heavy-Duty Engines and Vehicles | December 31, 2008 | May 12, 2010, 75 FR 26653 | Submitted on February 3, 2009. See 40 CFR 52.220(c)(376)(i)(A)(1).
1960.1 | Exhaust Emissions Standards and Test Procedures—1981 through 2006 Model Passenger Cars, Light-Duty and Medium-Duty Vehicles | March 26, 2004 | May 12, 2010, 75 FR 26653 | Submitted on February 3, 2009. See 40 CFR 52.220(c)(376)(i)(A)(1).
1961 | Exhaust Emissions Standards and Test Procedures—2004 and Subsequent Model Passenger Cars, Light-Duty and Medium-Duty Vehicles | June 16, 2008 | May 12, 2010, 75 FR 26653 | Submitted on February 3, 2009. See 40 CFR 52.220(c)(376)(i)(A)(1).
Title 13 (Motor Vehicles), Division 3 (Air Resources Board), Chapter 1 (Motor Vehicle Pollution Control Devices); Article 4.5
2025 | Regulation to Reduce Emissions of Diesel Particulate Matter, Oxides of Nitrogen and Other Criteria Pollutants, from in-Use Heavy-Duty Diesel-Fueled Vehicles | December 14, 2011 | April 4, 2012, 77 FR 20308 | The State of California Office of Administrative Law's corresponding Notice of Approval of Regulatory Action is dated December 14, 2011. Submitted on December 15, 2011. See 40 CFR 52.220(c)(410)(i)(A)(2).
2027 | In-Use on-Road Diesel-Fueled Heavy-Duty Drayage Trucks | November 9, 2011 | April 4, 2012, 77 FR 20308 | The State of California Office of Administrative Law's corresponding Notice of Approval of Regulatory Action is dated November 9, 2011. Submitted on December 9, 2011. See 40 CFR 52.220(c)(409)(i)(A)(2).
Title 13 (Motor Vehicles), Division 3 (Air Resources Board), Chapter 5 (Standards for Motor Vehicle Fuels); Article 1 (Standards for Gasoline)
2250 | Degree of Unsaturation for Gasolines Sold Before April 1, 1996 | December 16, 1992 | August 21, 1995, 60 FR 43379 | Submitted on November 15, 1994. See 40 CFR 52.220(c)(204)(i)(A)(3).
2252 | Sulfur Content of Gasoline Represented as Unleaded Sold Before April 1, 1996 | August 11, 1991 | August 21, 1995, 60 FR 43379 | Submitted on November 15, 1994. See 40 CFR 52.220(c)(204)(i)(A)(3).
2253.4 | Lead in Gasoline | August 12, 1991 | May 12, 2010, 75 FR 26653 | Submitted on June 15, 2004. See 40 CFR 52.220(c)(374)(i)(A)(1).
2254 | Manganese Additive Content | August 12, 1991 | May 12, 2010, 75 FR 26653 | Submitted on June 15, 2004. See 40 CFR 52.220(c)(374)(i)(A)(1).
2257 | Required Additives in Gasoline | July 16, 1999 | May 12, 2010, 75 FR 26653 | Submitted on June 15, 2004. See 40 CFR 52.220(c)(374)(i)(A)(1).
2259 | Exemptions for Motor Vehicle Fuels Used in Test Programs | February 15, 1995 | May 12, 2010, 75 FR 26653 | Submitted on June 15, 2004. See 40 CFR 52.220(c)(374)(i)(A)(1).
2260 | Definitions | August 29, 2008 | May 12, 2010, 75 FR 26653 | Submitted on February 3, 2009. See 40 CFR 52.220(c)(375)(i)(A)(1).
2261 | Applicability of Standards; Additional Standards | August 29, 2008 | May 12, 2010, 75 FR 26653 | Submitted on February 3, 2009. See 40 CFR 52.220(c)(375)(i)(A)(1).
2262 | The California Reformulated Gasoline Phase 2 and Phase 3 Standards | August 29, 2008 | May 12, 2010, 75 FR 26653 | Submitted on February 3, 2009. See 40 CFR 52.220(c)(375)(i)(A)(1).
2262.3 | Compliance with the CaRFP Phase 2 and CaRFG Phase 2 Standards for Sulfur, Benzene, Aromatic Hydrocarbons, Olefins, T50 and T90 | August 29, 2008 | May 12, 2010, 75 FR 26653 | Submitted on February 3, 2009. See 40 CFR 52.220(c)(375)(i)(A)(1).
2262.4 | Compliance with the CaRFP Phase 2 and CaRFG Phase 2 Standards for Reid Vapor Pressure | August 29, 2008 | May 12, 2010, 75 FR 26653 | Submitted on February 3, 2009. See 40 CFR 52.220(c)(375)(i)(A)(1).
2262.5 | Compliance with the Standards for Oxygen Content | August 29, 2008 | May 12, 2010, 75 FR 26653 | Submitted on February 3, 2009. See 40 CFR 52.220(c)(375)(i)(A)(1).
2262.6 | Prohibition of MTBE and Oxygenates Other Than Ethanol in California Gasoline Starting December 31, 2003 | April 9, 2005 | May 12, 2010, 75 FR 26653 | Submitted on February 3, 2009. See 40 CFR 52.220(c)(375)(i)(A)(1).
2262.9 | Requirements Regarding Denatured Ethanol Intended for Use as a Blend Component in California Gasoline | August 29, 2008 | May 12, 2010, 75 FR 26653 | Submitted on February 3, 2009. See 40 CFR 52.220(c)(375)(i)(A)(1).
2263 | Sampling Procedures and Test Methods | August 29, 2008 | May 12, 2010, 75 FR 26653 | Submitted on February 3, 2009. See 40 CFR 52.220(c)(375)(i)(A)(1).
2263.7 | Multiple Notification Requirements | August 29, 2008 | May 12, 2010, 75 FR 26653 | Submitted on February 3, 2009. See 40 CFR 52.220(c)(375)(i)(A)(1).
2264 | Designated Alternative Limits | August 20, 2001 | May 12, 2010, 75 FR 26653 | Submitted on February 3, 2009. See 40 CFR 52.220(c)(375)(i)(A)(1).
2264.2 | Election of Applicable Limit for Gasoline Supplied From a Production or Import Facility | August 29, 2008 | May 12, 2010, 75 FR 26653 | Submitted on February 3, 2009. See 40 CFR 52.220(c)(375)(i)(A)(1).
2265 | Gasoline Subject to PM Alternative Specifications Based on the California Predictive Model | August 29, 2008 | May 12, 2010, 75 FR 26653 | Submitted on February 3, 2009. See 40 CFR 52.220(c)(375)(i)(A)(1).
2265.1 | Offsetting Emissions Associated with Higher Sulfur Levels | August 29, 2008 | May 12, 2010, 75 FR 26653 | Submitted on February 3, 2009. See 40 CFR 52.220(c)(375)(i)(A)(1).
2265.5 | Alternative Emission Reduction Plan (AERP) | August 29, 2008 | May 12, 2010, 75 FR 26653 | Submitted on February 3, 2009. See 40 CFR 52.220(c)(375)(i)(A)(1).
2266 | Certified Gasoline Formulations Resulting in Equivalent Emission Reductions Based on Motor Vehicle Emission Testing | August 29, 2008 | May 12, 2010, 75 FR 26653 | Submitted on February 3, 2009. See 40 CFR 52.220(c)(375)(i)(A)(1).
2266.5 | Requirements Pertaining to California Reformulated Gasoline Blendstock for Oxygen Blending (CARBOB) and Downstream Blending | August 29, 2008 | May 12, 2010, 75 FR 26653 | Submitted on February 3, 2009. See 40 CFR 52.220(c)(375)(i)(A)(1).
2267 | Exemptions for Gasoline Used in Test Programs | September 2, 2000 | May 12, 2010, 75 FR 26653 | Submitted on June 15, 2004. See 40 CFR 52.220(c)(374)(i)(A)(1).
2268 | Liability of Persons Who Commit Violations Involving Gasoline That has Not Yet Been Sold or Supplied to a Motor Vehicle | September 2, 2000 | May 12, 2010, 75 FR 26653 | Submitted on June 15, 2004. See 40 CFR 52.220(c)(374)(i)(A)(1).
2269 | Submittal of Compliance Plans | December 24, 2002 | May 12, 2010, 75 FR 26653 | Submitted on June 15, 2004. See 40 CFR 52.220(c)(374)(i)(A)(1).
2270 | Testing and Recordkeeping | August 29, 2008 | May 12, 2010, 75 FR 26653 | Submitted on February 3, 2009. See 40 CFR 52.220(c)(375)(i)(A)(1).
2271 | Variances | August 29, 2008 | May 12, 2010, 75 FR 26653 | Submitted on February 3, 2009. See 40 CFR 52.220(c)(375)(i)(A)(1).
2272 | CaRFP Phase 3 Standards for Qualifying Small Refiners | May 1, 2003 | May 12, 2010, 75 FR 26653 | Submitted on June 15, 2004. See 40 CFR 52.220(c)(374)(i)(A)(1).
2273 | Labeling of Equipment Dispensing Gasoline Containing MTBE | August 29, 2008 | May 12, 2010, 75 FR 26653 | Submitted on February 3, 2009. See 40 CFR 52.220(c)(375)(i)(A)(1).
2273.5 | Documentation Provided with Delivery of Gasoline to Retail Outlets | May 1, 2003 | May 12, 2010, 75 FR 26653 | Submitted on June 15, 2004. See 40 CFR 52.220(c)(374)(i)(A)(1).
Title 13 (Motor Vehicles), Division 3 (Air Resources Board), Chapter 5 (Standards for Motor Vehicle Fuels); Article 2 (Standards for Diesel Fuel)
2281 | Sulfur Content of Diesel Fuel | August 4, 2005 | May 12, 2010, 75 FR 26653 | Submitted on February 3, 2009. See 40 CFR 52.220(c)(376)(i)(A)(1).
2282 | Aromatic Hydrocarbon Content of Diesel Fuel | August 4, 2005 | May 12, 2010, 75 FR 26653 | Submitted on February 3, 2009. See 40 CFR 52.220(c)(376)(i)(A)(1).
2284 | Lubricity of Diesel Fuel | August 4, 2005 | May 12, 2010, 75 FR 26653 | Submitted on February 3, 2009. See 40 CFR 52.220(c)(376)(i)(A)(1).
2285 | Exemption from Diesel Fuel Requirements for Military Specification Fuels Used in Qualifying Military Vehicles | August 14, 2004 | May 12, 2010, 75 FR 26653 | Submitted on February 3, 2009. See 40 CFR 52.220(c)(376)(i)(A)(1).
Title 13 (Motor Vehicles), Division 3 (Air Resources Board), Chapter 5 (Standards for Motor Vehicle Fuels); Article 4 (Sampling and Test Procedures)
2296 | Motor Fuel Sampling Procedures | October 14, 1992 | August 21, 1995, 60 FR 43379 | Submitted on November 15, 1994. See 40 CFR 52.220(c)(204)(i)(A)(3).
2297 | Test Method for the Determination of the Reid Vapor Pressure Equivalent Using an Automated Vapor Pressure Test Instrument | September 17, 1991 | August 21, 1995, 60 FR 43379 | Submitted on November 15, 1994. See 40 CFR 52.220(c)(204)(i)(A)(3).
Title 13 (Motor Vehicles), Division 3 (Air Resources Board), Chapter 14 (Verification Procedures, Warranty and In-Use Compliance Requirements for In-Use Strategies to Control Emissions from Diesel Engines)
2701 | Definitions | January 1, 2005 | May 12, 2010, 75 FR 26653 | Submitted on February 3, 2009. See 40 CFR 52.220(c)(376)(i)(A)(1).
Title 16 (Professional and Vocational Regulations), Division 33 (Bureau of Automotive Repair), Chapter 1 (Automotive Repair Dealers and Official Stations and Adjusters); Article 1 (General Provisions)
3303.1 | Public Access to License, Administrative Action, and Complaint Information | July 20, 2007 | July 1, 2010, 75 FR 38023 | Submitted on June 5, 2009. See 40 CFR 52.220(c)(372)(i)(A)(1).
3303.2 | Review of Applications for Licensure, Registration and Certification; Processing Time | July 9, 2003 | July 1, 2010, 75 FR 38023 | Submitted on June 5, 2009. See 40 CFR 52.220(c)(372)(i)(A)(1).
Title 16 (Professional and Vocational Regulations), Division 33 (Bureau of Automotive Repair), Chapter 1 (Automotive Repair Dealers and Official Stations and Adjusters); Article 5.5 (Motor Vehicle Inspection Program)
3340.1 | Definitions | June 29, 2006 | July 1, 2010, 75 FR 38023 | Submitted on June 5, 2009. See 40 CFR 52.220(c)(372)(i)(A)(1).
3340.5 | Vehicles Exempt from Inspections | April 16, 1990 | January 8, 1997, 62 FR 1150 | Submitted on January 22, 1996. See 40 CFR 52.220(c)(234)(i)(A)(1)(iv).
3340.6 | Vehicles Subject to Inspection upon Change of Ownership and Initial Registration in California | April 16, 1990 | January 8, 1997, 62 FR 1150 | Submitted on January 22, 1996. See 40 CFR 52.220(c)(234)(i)(A)(1)(iv).
3340.7 | Fee for Inspection at State Contracted Test-Only Facility | August 17, 1995 | July 1, 2010, 75 FR 38023 | Submitted on June 5, 2009. See 40 CFR 52.220(c)(372)(i)(A)(1).
3340.9 | Repair Assistance Program | October 30, 2000 | July 1, 2010, 75 FR 38023 | Submitted on June 5, 2009. See 40 CFR 52.220(c)(372)(i)(A)(1).
3340.10 | Licensing of Smog Check Stations | July 26, 1996 | July 1, 2010, 75 FR 38023 | Submitted on June 5, 2009. See 40 CFR 52.220(c)(372)(i)(A)(1).
3340.15 | General Requirements for Smog Check Stations | July 9, 2003 | July 1, 2010, 75 FR 38023 | Submitted on June 5, 2009. See 40 CFR 52.220(c)(372)(i)(A)(1).
3340.16 | Test-Only Station Requirements | August 1, 2007 | July 1, 2010, 75 FR 38023 | Submitted on June 5, 2009. See 40 CFR 52.220(c)(372)(i)(A)(1).
3340.16.5 | Test-and-Repair Station Requirements | June 29, 2006 | July 1, 2010, 75 FR 38023 | Submitted on June 5, 2009. See 40 CFR 52.220(c)(372)(i)(A)(1).
3340.17 | Test Equipment, Electronic Transmission, Maintenance and Calibration Requirements | June 29, 2006 | July 1, 2010, 75 FR 38023 | Submitted on June 5, 2009. See 40 CFR 52.220(c)(372)(i)(A)(1).
3340.18 | Gases and Blenders of Gases | July 9, 2003 | July 1, 2010, 75 FR 38023 | Submitted on June 5, 2009. See 40 CFR 52.220(c)(372)(i)(A)(1).
3340.22 | Smog Check Station Signs | April 16, 1990 | January 8, 1997, 62 FR 1150 | Submitted on January 22, 1996. See 40 CFR 52.220(c)(234)(i)(A)(1)(iv).
3340.22.1 | Smog Check Station Service Signs | February 1, 2001 | July 1, 2010, 75 FR 38023 | Submitted on June 5, 2009. See 40 CFR 52.220(c)(372)(i)(A)(1).
3340.22.2 | Smog Check Repair Cost Limit Sign | February 1, 2001 | July 1, 2010, 75 FR 38023 | Submitted on June 5, 2009. See 40 CFR 52.220(c)(372)(i)(A)(1).
3340.22.3 | Replacement of Signs | September 17, 1992 | January 8, 1997, 62 FR 1150 | Submitted on January 22, 1996. See 40 CFR 52.220(c)(234)(i)(A)(1)(iv).
3340.23 | Licensed Smog Check Station That Ceases Operating As a Licensed Station | June 23, 1995 | July 1, 2010, 75 FR 38023 | Submitted on June 5, 2009. See 40 CFR 52.220(c)(372)(i)(A)(1).
3340.24 | Suspension, Revocation, and Reinstatement of Licenses | June 23, 1995 | July 1, 2010, 75 FR 38023 | Submitted on June 5, 2009. See 40 CFR 52.220(c)(372)(i)(A)(1).
3340.28 | Licensing and Qualifications of Technicians | January 17, 2009 | July 1, 2010, 75 FR 38023 | Submitted on June 5, 2009. See 40 CFR 52.220(c)(372)(i)(A)(1).
3340.29 | Licensing of Technicians | January 17, 2009 | July 1, 2010, 75 FR 38023 | Submitted on June 5, 2009. See 40 CFR 52.220(c)(372)(i)(A)(1).
3340.30 | General Requirements for Licensed Technicians | June 23, 1995 | July 1, 2010, 75 FR 38023 | Submitted on June 5, 2009. See 40 CFR 52.220(c)(372)(i)(A)(1).
3340.31 | Retraining of Licensed Technicians | June 23, 1995 | July 1, 2010, 75 FR 38023 | Submitted on June 5, 2009. See 40 CFR 52.220(c)(372)(i)(A)(1).
3340.32 | Standards for the Certification of Institutions Providing Retraining to Licensed Technicians or Prerequisite Training to Those Seeking to Become Licensed Technicians | July 9, 2003 | July 1, 2010, 75 FR 38023 | Submitted on June 5, 2009. See 40 CFR 52.220(c)(372)(i)(A)(1).
3340.32.1 | Standards for Decertification of Institutions Providing Retraining to Licensed Technicians or Prerequisite Training to Those Seeking to Become Licensed Technicians | June 23, 1995 | July 1, 2010, 75 FR 38023 | Submitted on June 5, 2009. See 40 CFR 52.220(c)(372)(i)(A)(1).
3340.33 | Standards for the Certification of Basic and Advanced Instructors Providing Retraining to Intern, Basic Area, and Advanced Emission Specialist Licensed Technicians or Prerequisite Training to Those Seeking to Become Intern, Basic Area, or Advanced Emission Specialist Licensed Technicians | February 1, 2001 | July 1, 2010, 75 FR 38023 | Submitted on June 5, 2009. See 40 CFR 52.220(c)(372)(i)(A)(1).
3340.33.1 | Standards for the Decertification and Recertification of Instructors Providing Retraining to Licensed Technicians or Prerequisite Training to Those Seeking to Become Licensed Technicians | June 23, 1995 | July 1, 2010, 75 FR 38023 | Submitted on June 5, 2009. See 40 CFR 52.220(c)(372)(i)(A)(1).
3340.35 | A Certificate of Compliance, Noncompliance, Repair Cost Waiver or an Economic Hardship Extension | June 25, 1998 | July 1, 2010, 75 FR 38023 | Submitted on June 5, 2009. See 40 CFR 52.220(c)(372)(i)(A)(1).
3340.35.1 | A Certificate of Compliance, Noncompliance, Repair Cost Waiver or an Economic Hardship Extension Calculation | December 2, 1998 | July 1, 2010, 75 FR 38023 | Submitted on June 5, 2009. See 40 CFR 52.220(c)(372)(i)(A)(1).
3340.36 | Clearing Enforcement Forms | July 26, 1996 | July 1, 2010, 75 FR 38023 | Submitted on June 5, 2009. See 40 CFR 52.220(c)(372)(i)(A)(1).
3340.37 | Installation of Oxides of Nitrogen (NOX) Devices | July 26, 1996 | July 1, 2010, 75 FR 38023 | Submitted on June 5, 2009. See 40 CFR 52.220(c)(372)(i)(A)(1).
3340.41 | Inspection, Test, and Repair Requirements | June 29, 2006 | July 1, 2010, 75 FR 38023 | Submitted on June 5, 2009. See 40 CFR 52.220(c)(372)(i)(A)(1).
3340.41.3 | Invoice Requirements | April 16, 1990 | January 8, 1997, 62 FR 1150 | Submitted on January 22, 1996. See 40 CFR 52.220(c)(234)(i)(A)(1)(iv).
3340.41.5 | Tampering with Emissions Control Systems | December 7, 1984 | January 8, 1997, 62 FR 1150 | Submitted on January 22, 1996. See 40 CFR 52.220(c)(234)(i)(A)(1)(iv).
3340.42 | Mandatory Smog Check Inspection and Test Procedures, and Emission Standards | January 11, 2008 | July 1, 2010, 75 FR 38023 | Submitted on June 5, 2009. See 40 CFR 52.220(c)(372)(i)(A)(1).
3340.50 | Fleet Facility Requirements | February 15, 2002 | July 1, 2010, 75 FR 38023 | Submitted on June 5, 2009. See 40 CFR 52.220(c)(372)(i)(A)(1).
3340.50.1 | Application for Fleet Facility License; Renewal; Replacement | April 16, 1990 | January 8, 1997, 62 FR 1150 | Submitted on January 22, 1996. See 40 CFR 52.220(c)(234)(i)(A)(1)(iv).
3340.50.3 | Fleet Records and Reporting Requirements | June 23, 1995 | July 1, 2010, 75 FR 38023 | Submitted on June 5, 2009. See 40 CFR 52.220(c)(372)(i)(A)(1).
3340.50.4 | Fleet Certificates | June 25, 1998 | July 1, 2010, 75 FR 38023 | Submitted on June 5, 2009. See 40 CFR 52.220(c)(372)(i)(A)(1).
3340.50.5 | Suspension or Rescission of Fleet Facility License | June 25, 1998 | July 1, 2010, 75 FR 38023 | Submitted on June 5, 2009. See 40 CFR 52.220(c)(372)(i)(A)(1).
Title 16 (Professional and Vocational Regulations), Division 33 (Bureau of Automotive Repair), Chapter 1 (Automotive Repair Dealers and Official Stations and Adjusters); Article 10 (Gold Shield Program)
3392.1 | Gold Shield Program (GSP) | May 28, 2003 | July 1, 2010, 75 FR 38023 | Submitted on June 5, 2009. See 40 CFR 52.220(c)(372)(i)(A)(1).
3392.2 | Responsibilities of Smog Check Stations Certified as Gold Shield | August 1, 2007 | July 1, 2010, 75 FR 38023 | Submitted on June 5, 2009. See 40 CFR 52.220(c)(372)(i)(A)(1).
3392.3 | Eligibility for Gold Shield Certification; Quality Assurance | May 28, 2003 | July 1, 2010, 75 FR 38023 | Submitted on June 5, 2009. See 40 CFR 52.220(c)(372)(i)(A)(1).
3392.4 | Gold Shield Guaranteed Repair (GSGR) Program Advertising Rights | May 28, 2003 | July 1, 2010, 75 FR 38023 | Submitted on June 5, 2009. See 40 CFR 52.220(c)(372)(i)(A)(1).
3392.5 | Causes for Invalidation of Gold Shield Station Certification | May 28, 2003 | July 1, 2010, 75 FR 38023 | Submitted on June 5, 2009. See 40 CFR 52.220(c)(372)(i)(A)(1).
3392.6 | Gold Shield Program Hearing and Determination | May 28, 2003 | July 1, 2010, 75 FR 38023 | Submitted on June 5, 2009. See 40 CFR 52.220(c)(372)(i)(A)(1).
Title 16 (Professional and Vocational Regulations), Division 33 (Bureau of Automotive Repair), Chapter 1 (Automotive Repair Dealers and Official Stations and Adjusters); Article 11 (Consumer Assistance Program)
3394.1 | Purpose and Components of the Consumer Assistance Program | October 30, 2000 | July 1, 2010, 75 FR 38023 | Submitted on June 5, 2009. See 40 CFR 52.220(c)(372)(i)(A)(1).
3394.2 | Consumer Assistance Program Administration | October 30, 2000 | July 1, 2010, 75 FR 38023 | Submitted on June 5, 2009. See 40 CFR 52.220(c)(372)(i)(A)(1).
3394.3 | State Assistance Limits | October 30, 2000 | July 1, 2010, 75 FR 38023 | Submitted on June 5, 2009. See 40 CFR 52.220(c)(372)(i)(A)(1).
3394.4 | Eligibility Requirements | August 12, 2008 | July 1, 2010, 75 FR 38023 | Submitted on June 5, 2009. See 40 CFR 52.220(c)(372)(i)(A)(1).
3394.5 | Ineligible Vehicles | October 30, 2000 | July 1, 2010, 75 FR 38023 | Submitted on June 5, 2009. See 40 CFR 52.220(c)(372)(i)(A)(1).
3394.6 | Application and Documentation Requirements | July 3, 2006 | July 1, 2010, 75 FR 38023 | Submitted on June 5, 2009. See 40 CFR 52.220(c)(372)(i)(A)(1).
Title 17 (Public Health), Division 3 (Air Resources), Chapter 1 (Air Resources Board); Subchapter 7.5 (Airborne Toxic Control Measures)
93114 | Airborne Toxic Control Measure to Reduce Particulate Emissions from Diesel-Fueled Engines—Standards for Nonvehicular Diesel Fuel | August 14, 2004 | May 12, 2010, 75 FR 26653 | Submitted on February 3, 2009. See 40 CFR 52.220(c)(376)(i)(A)(2).
Title 17 (Public Health), Division 3 (Air Resources), Chapter 1 (Air Resources Board); Subchapter 8 (Compliance with Nonvehicular Emissions Standards)
94000 | Test Procedures for Vapor Recovery Systems—Service Stations | October 29, 1978 | July 8, 1982, 47 FR 29668 | Submitted on April 23, 1980. See 40 CFR 52.220(c)(69)(iv).
94001 | Certification of Vapor Recovery Systems—Service Stations | October 29, 1978 | July 8, 1982, 47 FR 29668 | Submitted on April 23, 1980. See 40 CFR 52.220(c)(69)(iv).
94002 | Certification of Vapor Recovery Systems—Gasoline Bulk Plants | October 29, 1978 | July 8, 1982, 47 FR 29668 | Submitted on April 23, 1980. See 40 CFR 52.220(c)(69)(iv).
94003 | Certification of Vapor Recovery Systems—Gasoline Terminals | May 10, 1977 | July 8, 1982, 47 FR 29668 | Submitted on April 23, 1980. See 40 CFR 52.220(c)(69)(iv).
94004 | Certification of Vapor Recovery Systems—Gasoline Delivery Tanks | May 10, 1977 | July 8, 1982, 47 FR 29668 | Submitted on April 23, 1980. See 40 CFR 52.220(c)(69)(iv).
Title 17 (Public Health), Division 3 (Air Resources), Chapter 1 (Air Resources Board); Subchapter 8.5 (Consumer Products); Article 1 (Antiperspirants and Deodorants)
94500 | Applicability | March 30, 1996 | November 4, 2009, 74 FR 57074 | Submitted on March 27, 2008. See 40 CFR 52.220(c)(365)(i)(A)(1).
94501 | Definitions | July 20, 2005 | November 4, 2009, 74 FR 57074 | Submitted on March 27, 2008. See 40 CFR 52.220(c)(365)(i)(A)(1).
94502 | Standards for Antiperspirants and Deodorants | June 6, 2001 | November 4, 2009, 74 FR 57074 | Submitted on March 27, 2008. See 40 CFR 52.220(c)(365)(i)(A)(1).
94503 | Exemptions | March 30, 1996 | November 4, 2009, 74 FR 57074 | Submitted on March 27, 2008. See 40 CFR 52.220(c)(365)(i)(A)(1).
94503.5 | Innovative Products | March 30, 1996 | November 4, 2009, 74 FR 57074 | Submitted on March 27, 2008. See 40 CFR 52.220(c)(365)(i)(A)(1).
94504 | Administrative Requirements | June 6, 2001 | November 4, 2009, 74 FR 57074 | Submitted on March 27, 2008. See 40 CFR 52.220(c)(365)(i)(A)(1).
94505 | Variances | March 30, 1996 | November 4, 2009, 74 FR 57074 | Submitted on March 27, 2008. See 40 CFR 52.220(c)(365)(i)(A)(1).
94506 | Test Methods | July 20, 2005 | November 4, 2009, 74 FR 57074 | Submitted on March 27, 2008. See 40 CFR 52.220(c)(365)(i)(A)(1).
94506.5 | Federal Enforceability | December 16, 1999 | November 4, 2009, 74 FR 57074 | Submitted on March 27, 2008. See 40 CFR 52.220(c)(365)(i)(A)(1).
Title 17 (Public Health), Division 3 (Air Resources), Chapter 1 (Air Resources Board); Subchapter 8.5 (Consumer Products); Article 2 (Consumer Products)
94507 | Applicability | November 19, 2000 | October 17, 2014, 79 FR 62346 | Submitted on May 28, 2014. See 40 CFR 52.220(c)(444)(i)(A)(1).
94508 | Definitions | December 10, 2011 | October 17, 2014, 79 FR 62346 | Submitted on May 28, 2014. See 40 CFR 52.220(c)(444)(i)(A)(1).
94509 | Standards for Consumer Products | December 10, 2011 | October 17, 2014, 79 FR 62346 | Submitted on May 28, 2014. See 40 CFR 52.220(c)(444)(i)(A)(1).
94510 | Exemptions | December 10, 2011 | October 17, 2014, 79 FR 62346 | Submitted on May 28, 2014. See 40 CFR 52.220(c)(444)(i)(A)(1).
94511 | Innovative Products | October 20, 2010 | October 17, 2014, 79 FR 62346 | Submitted on May 28, 2014. See 40 CFR 52.220(c)(444)(i)(A)(1).
94512 | Administrative Requirements | December 10, 2011 | October 17, 2014, 79 FR 62346 | Submitted on May 28, 2014. See 40 CFR 52.220(c)(444)(i)(A)(1).
94513 | Reporting Requirements | October 20, 2010 | October 17, 2014, 79 FR 62346 | Submitted on May 28, 2014. See 40 CFR 52.220(c)(444)(i)(A)(1).
94514 | Variances | December 8, 2007 | October 17, 2014, 79 FR 62346 | Submitted on May 28, 2014. See 40 CFR 52.220(c)(444)(i)(A)(1).
94515 | Test Methods | December 10, 2011 | October 17, 2014, 79 FR 62346 | Submitted on May 28, 2014. See 40 CFR 52.220(c)(444)(i)(A)(1).
94516 | Severability | October 21, 1991 | October 17, 2014, 79 FR 62346 | Submitted on May 28, 2014. See 40 CFR 52.220(c)(444)(i)(A)(1).
94517 | Federal Enforceability | November 18, 1997 | October 17, 2014, 79 FR 62346 | Submitted on May 28, 2014. See 40 CFR 52.220(c)(444)(i)(A)(1).
Title 17 (Public Health), Division 3 (Air Resources), Chapter 1 (Air Resources Board); Subchapter 8.5 (Consumer Products); Article 3 (Aerosol Coating Products)
94520 | Applicability | January 8, 1996 | November 4, 2009, 74 FR 57074 | Submitted on March 27, 2008. See 40 CFR 52.220(c)(365)(i)(A)(3).
94521 | Definitions | July 18, 2001 | November 4, 2009, 74 FR 57074 | Submitted on March 27, 2008. See 40 CFR 52.220(c)(365)(i)(A)(3).
94522 | Limits and Requirements for Aerosol Coating Products | July 18, 2001 | November 4, 2009, 74 FR 57074 | Submitted on March 27, 2008. See 40 CFR 52.220(c)(365)(i)(A)(3).
94523 | Exemptions | December 8, 2007 | November 4, 2009, 74 FR 57074 | Submitted on March 27, 2008. See 40 CFR 52.220(c)(365)(i)(A)(3).
94524 | Administrative Requirements | July 18, 2001 | November 4, 2009, 74 FR 57074 | Submitted on March 27, 2008. See 40 CFR 52.220(c)(365)(i)(A)(3).
94525 | Variances | January 8, 1996 | November 4, 2009, 74 FR 57074 | Submitted on March 27, 2008. See 40 CFR 52.220(c)(365)(i)(A)(3).
94526 | Test Methods | July 20, 2005 | November 4, 2009, 74 FR 57074 | Submitted on March 27, 2008. See 40 CFR 52.220(c)(365)(i)(A)(3).
94527 | Severability | January 8, 1996 | November 4, 2009, 74 FR 57074 | Submitted on March 27, 2008. See 40 CFR 52.220(c)(365)(i)(A)(3).
94528 | Federal Enforceability | January 8, 1996 | November 4, 2009, 74 FR 57074 | Submitted on March 27, 2008. See 40 CFR 52.220(c)(365)(i)(A)(3).
Title 17 (Public Health), Division 3 (Air Resources), Chapter 1 (Air Resources Board); Subchapter 8.6 (Maximum Incremental Reactivity); Article 1 (Tables of Maximum Incremental Reactivity (MIR) Values)
94700 | MIR Values for Compounds | July 18, 2001 | September 13, 2005, 70 FR 53930 | Submitted on March 13, 2002. See 40 CFR 52.220(c)(338)(i)(A)(1).
94701 | MIR Values for Hydrocarbon Solvents | July 18, 2001 | September 13, 2005, 70 FR 53930 | Submitted on March 13, 2002. See 40 CFR 52.220(c)(338)(i)(A)(1).
¹ Table 1 lists EPA-approved California statutes and regulations incorporated by reference in the applicable SIP. Table 2 of paragraph (c) lists approved California test procedures, test methods and specifications that are cited in certain regulations listed in table 1. Approved California statutes that are nonregulatory or quasi-regulatory are listed in paragraph (e).

Table 2—EPA-Approved California Test Procedures, Test Methods, and Specifications
Title/subject | State effective date | EPA approval date | Additional explanation
Method 2-1: Test Procedures for Determining the Efficiency of Gasoline Vapor Recovery Systems at Service Stations | September 1, 1982 | May 3, 1984, 49 FR 18829 | Submitted on January 20, 1983. See 40 CFR 52.220(c)(149)(i)(A).
Method 2-2: Certification Procedures for Gasoline Vapor Recovery Systems at Service Stations | August 9, 1978 | July 8, 1982, 47 FR 29668 | Submitted on April 23, 1980. See 40 CFR 52.220(c)(69)(iv).
Method 2-3: Certification and Test Procedures for Vapor Recovery Systems at Gasoline Bulk Plants | August 9, 1978 | July 8, 1982, 47 FR 29668 | Submitted on April 23, 1980. See 40 CFR 52.220(c)(69)(iv).
Method 2-4: Certification and Test Procedures for Vapor Recovery Systems at Gasoline Terminals | April 18, 1977 | July 8, 1982, 47 FR 29668 | Submitted on April 23, 1980. See 40 CFR 52.220(c)(69)(iv).
Method 2-5: Certification and Test Procedures for Vapor Recovery Systems of Gasoline Delivery Tanks | September 1, 1982 | May 3, 1984, 49 FR 18829 | Submitted on January 20, 1983. See 40 CFR 52.220(c)(149)(i)(A).
Test Procedures for Gasoline Vapor Leak Detection Using Combustible Gas Detector | September 1, 1982 | May 3, 1984, 49 FR 18829 | Submitted on January 20, 1983. See 40 CFR 52.220(c)(149)(i)(A).
California Procedures for Evaluating Alternative Specifications for Phase 2 Reformulated Gasoline Using the California Predictive Model | December 11, 1998 | May 12, 2010, 75 FR 26653 | Submitted on June 15, 2004. See 40 CFR 52.220(c)(374)(i)(A)(2).
California Procedures for Evaluating Alternative Specifications for Gasoline Using Vehicle Emissions Testing | April 25, 2001 | May 12, 2010, 75 FR 26653 | Submitted on June 15, 2004. See 40 CFR 52.220(c)(374)(i)(A)(4).
California Procedures for Evaluating Alternative Specifications for Phase 3 Reformulated Gasoline Using the California Predictive Model | August 7, 2008 | May 12, 2010, 75 FR 26653 | Submitted on June 15, 2004. See 40 CFR 52.220(c)(375)(i)(A)(2).
Procedures for Using the California Model for California Reformulated Gasoline Blendstocks for Oxygenate Blending (CARBOB) | August 7, 2008 | May 12, 2010, 75 FR 26653 | Submitted on June 15, 2004. See 40 CFR 52.220(c)(375)(i)(A)(3).

Table 3—EPA-Approved Amador County Air District Regulations
District citation | Title/subject | State effective date | EPA approval date | Additional explanation
[Reserved]

Table 4—EPA-Approved Antelope Valley Air District Regulations; Los Angeles County Air District Regulations
District citation | Title/subject | State effective date | EPA approval date | Additional explanation
[Reserved]

Table 5—EPA-Approved Bay Area Air District Regulations
District citation | Title/subject | State effective date | EPA approval date | Additional explanation
[Reserved]

Table 6—EPA-Approved Butte County Air District Regulations
District citation | Title/subject | State effective date | EPA approval date | Additional explanation
[Reserved]

Table 7—EPA-Approved Calaveras County Air District Regulations
District citation | Title/subject | State effective date | EPA approval date | Additional explanation
[Reserved]

Table 8—EPA-Approved Coachella Valley Planning Area Ordinances
District citation | Title/subject | State effective date | EPA approval date | Additional explanation
[Reserved]

Table 9—EPA-Approved Colusa County Air District Regulations
District citation | Title/subject | State effective date | EPA approval date | Additional explanation
[Reserved]

Table 10—EPA-Approved Eastern Kern County Air District Regulations; Kern County Air District Regulations
District citation | Title/subject | State effective date | EPA approval date | Additional explanation
[Reserved]

Table 11—EPA-Approved El Dorado County Air District Regulations
District citation | Title/subject | State effective date | EPA approval date | Additional explanation
[Reserved]

Table 12—EPA-Approved Feather River Air District Regulations; Sutter County Air District Regulations; Yuba County Air District Regulations
District citation | Title/subject | State effective date | EPA approval date | Additional explanation
[Reserved]

Table 13—EPA-Approved Glenn County Air District Regulations
District citation | Title/subject | State effective date | EPA approval date | Additional explanation
[Reserved]

Table 14—EPA-Approved Great Basin Unified Air District Regulations
District citation | Title/subject | State effective date | EPA approval date | Additional explanation
[Reserved]

Table 15—EPA-Approved Imperial County Air District Regulations
District citation | Title/subject | State effective date | EPA approval date | Additional explanation
[Reserved]

Table 16—EPA-Approved Lake County Air District Regulations
District citation | Title/subject | State effective date | EPA approval date | Additional explanation
[Reserved]

Table 17—EPA-Approved Lassen County Air District Regulations
District citation | Title/subject | State effective date | EPA approval date | Additional explanation
[Reserved]

Table 18—EPA-Approved Mariposa County Air District Regulations
District citation | Title/subject | State effective date | EPA approval date | Additional explanation
[Reserved]

Table 19—EPA-Approved Mendocino County Air District Regulations
District citation | Title/subject | State effective date | EPA approval date | Additional explanation
[Reserved]

Table 20—EPA-Approved Modoc County Air District Regulations
District citation | Title/subject | State effective date | EPA approval date | Additional explanation
[Reserved]

Table 21—EPA-Approved Mojave Desert Air District Regulations; Riverside County Air District Regulations; San Bernardino County Air District Regulations
District citation | Title/subject | State effective date | EPA approval date | Additional explanation
[Reserved]

Table 22—EPA-Approved Monterey Bay Unified Air District Regulations
District citation | Title/subject | State effective date | EPA approval date | Additional explanation
[Reserved]

Table 23—EPA-Approved North Coast Unified Air District Regulations
District citation | Title/subject | State effective date | EPA approval date | Additional explanation
[Reserved]

Table 24—EPA-Approved Northern Sierra Air District Regulations; Nevada County Air District Regulations; Plumas County Air District Regulations; Sierra County Air District Regulations
District citation | Title/subject | State effective date | EPA approval date | Additional explanation
[Reserved]

Table 25—EPA-Approved Northern Sonoma County Air District Regulations
District citation | Title/subject | State effective date | EPA approval date | Additional explanation
[Reserved]

Table 26—EPA-Approved Placer County Air District Regulations
District citation | Title/subject | State effective date | EPA approval date | Additional explanation
[Reserved]

Table 27—EPA-Approved Sacramento Metropolitan Air District Regulations
District citation | Title/subject | State effective date | EPA approval date | Additional explanation
[Reserved]

Table 28—EPA-Approved San Diego County Air District Regulations
District citation | Title/subject | State effective date | EPA approval date | Additional explanation
[Reserved]

Table 29—EPA-Approved San Joaquin Valley Unified Air District Regulations; Fresno County Air District Regulations; Kern County Air District Regulations; Kings County Air District Regulations; Madera County Air District Regulations; Merced County Air District Regulations; San Joaquin County Air District Regulations; Stanislaus County Air District Regulations; Tulare County Air District Regulations
District citation | Title/subject | State effective date | EPA approval date | Additional explanation
[Reserved]

Table 30—EPA-Approved San Luis Obispo County Air District Regulations
District citation | Title/subject | State effective date | EPA approval date | Additional explanation
[Reserved]

Table 31—EPA-Approved Santa Barbara County Air District Regulations
District citation | Title/subject | State effective date | EPA approval date | Additional explanation
[Reserved]

Table 32—EPA-Approved Shasta County Air District Regulations
District citation | Title/subject | State effective date | EPA approval date | Additional explanation
[Reserved]

Table 33—EPA-Approved Siskiyou County Air District Regulations
District citation | Title/subject | State effective date | EPA approval date | Additional explanation
[Reserved]

Table 34—EPA-Approved South Coast Air District Regulations; Los Angeles County Air District Regulations; Orange County Air District Regulations; Riverside County Air District Regulations; San Bernardino County Air District Regulations
District citation | Title/subject | State effective date | EPA approval date | Additional explanation
[Reserved]

Table 35—EPA-Approved Tehama County Air District Regulations
District citation | Title/subject | State effective date | EPA approval date | Additional explanation
[Reserved]

Table 36—EPA-Approved Tuolumne County Air District Regulations
District citation | Title/subject | State effective date | EPA approval date | Additional explanation
[Reserved]

Table 37—EPA-Approved Tuolumne County Air District Regulations
District citation | Title/subject | State effective date | EPA approval date | Additional explanation
[Reserved]

Table 38—EPA-Approved Ventura County Air District Regulations
District citation | Title/subject | State effective date | EPA approval date | Additional explanation
[Reserved]

Table 39—EPA-Approved Yolo-Solano Air District Regulations
District citation | Title/subject | State effective date | EPA approval date | Additional explanation
[Reserved]

(d) EPA-approved source-specific requirements. [Reserved]

(e) EPA-approved California nonregulatory provisions and quasi-regulatory measures. [Reserved]

[FR Doc. 2016-12380 Filed 5-25-16; 8:45 am]

BILLING CODE 6560-50-P